JUDICIAL CONFERENCE OF THE UNITED STATES

Meeting of the Judicial Conference Committee on Rules of Practice and Procedure

AGENCY: Judicial Conference of the United States Committee on Rules of Practice and Procedure.

ACTION: Notice of open meeting.

SUMMARY: The Committee on Rules of Practice and Procedure will hold a two-day meeting. The meeting will be open to public observation but not participation.

DATES: January 9-10, 2014

TIME: January 9, 2014: 1:30 p.m.-5:00 p.m., January 10, 2014: 8:30 a.m.-5:00 p.m.

ADDRESSES: Arizona Biltmore Hotel, 2400 East Missouri Avenue, Phoenix, Arizona 85016.

FOR FURTHER INFORMATION CONTACT: Jonathan C. Rose, Rules Committee Secretary, Rules Committee Support Office, Administrative Office of the United States Courts, Washington, DC 20544, telephone (202) 502-1820.

Dated: December 11, 2013.
Jonathan C. Rose,
Rules Committee Secretary.

[FR Doc. 2013-29841 Filed 12-13-13; 8:45 am]

BILLING CODE 2210-55-P